DEPARTMENT OF THE INTERIOR

Minerals Management Service

Agency Information Collection Activities: Submitted for Office of Management and Budget (OMB) Review; Comment Request

AGENCY: Minerals Management Service (MMS), Interior.

ACTION: Notice of an extension of a currently approved information collection (OMB Control Number 1010-0090).

SUMMARY: To comply with the Paperwork Reduction Act of 1995 (PRA), we are notifying the public that we have submitted to OMB an information collection request (ICR) to renew approval of the paperwork requirements in the regulations under 30 CFR 216, Subpart B—Oil and Gas, General. This notice also provides the public a second opportunity to comment on the paperwork burden of these regulatory requirements. The ICR is titled “30 CFR 216, Subpart B—Oil and Gas, General, § 216.57 Stripper Royalty Rate Reduction Notification (Form MMS-4377, Stripper Royalty Rate Reduction Notification).” We changed the title of this ICR from “Stripper Royalty Rate Reduction Notification (Form MMS-4377)” to clarify the regulatory language we are covering under 30 CFR 216.57.

DATES: Submit written comments on or before October 8, 2004.

ADDRESSES: Submit written comments by either FAX (202) 395-6566 or e-mail (OIRA_Docket@omb.eop.gov) directly to the Office of Information and Regulatory Affairs, OMB, Attention: Desk Officer for the Department of the Interior (OMB Control Number 1010-0090.) Mail or hand-carry a copy of your comments to Sharron L. Gebhardt, Lead Regulatory Specialist, Minerals Management Service, Minerals Revenue Management, P.O. Box 25165, MS 302B2, Denver, Colorado 80225. If you use an overnight courier service, our courier address is Building 85, Room A-614, Denver Federal Center, Denver, Colorado 80225. You may also e-mail your comments to us at mrm.comments@mms.gov. Include the title of the information collection and the OMB Control Number in the “Attention” line of your comment. Also include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3781, e-mail Sharron.Gebhardt@mms.gov. You may also contact Sharron Gebhardt to obtain a copy at no cost of the form and regulations that require the subject collection of information.

SUPPLEMENTARY INFORMATION: Title: 30 CFR 216, Subpart B—Oil and Gas, General, § 216.57 Stripper Royalty Rate Reduction Notification (Form MMS-4377, Stripper Royalty Rate Reduction Notification).

OMB Control Number: 1010-0090.

Bureau Form Number: Form MMS-4377.

Abstract: The Secretary of the U.S. Department of the Interior is responsible for matters relevant to mineral resource development on Federal and Indian lands and the Outer Continental Shelf (OCS). The Secretary under The Mineral Leasing Act (30 U.S.C. 1923) and The Outer Continental Shelf Lands Act (43 U.S.C. 1353) is responsible for managing the production of minerals from Federal and Indian lands and the OCS, collecting royalties from lessees who produce minerals, and distributing the funds collected in accordance with applicable laws. The MMS performs the royalty management functions for the Secretary.

The Bureau of Land Management, the surface management agency for Federal onshore leases, grants royalty rate reductions to operators of stripper oil properties producing an average of less than 15 barrels of oil per eligible well per well-day. See 43 CFR 3103.4-2. The purpose of these royalty rate reductions is to encourage continued production, provide an incentive for enhanced oil recovery projects, discourage abandonment of properties producing an average of less than 15 barrels of oil per eligible well per well-day, and reduce the operator's expenses. The royalty rate for a stripper oil property is lower than the royalty rate reflected in the lease and thus reduces the amount of revenues paid to the Federal Government. In order to perform the royalty management functions for the Secretary, MMS must receive timely notification of any royalty rate change. Reporters use the Form MMS-4377 to notify MMS of royalty rate changes. Operators may submit an initial Form MMS-4377 when a new property qualifies as a stripper oil property. Reporters must submit Form MMS-4377 to notify MMS of a royalty rate reduction that is lower than the initial royalty rate reduction on an existing stripper oil property (out-year notification). The decision to request an initial royalty rate reduction is voluntary; however, failure to timely submit the out-year notification will result in the royalty rate change being denied.

The MMS is requesting OMB's approval to continue to collect this information. Not collecting this information would limit the Secretary's ability to discharge fiduciary duties and may also result in loss of royalty payments. Proprietary information submitted is protected, and there are no questions of a sensitive nature included in this information collection.

Frequency: Annually.

Estimated Number and Description of Respondents: 900 operators of stripper oil properties producing an average of less than 15 barrels of oil per eligible well per well-day.

Estimated Annual Reporting and Recordkeeping “Hour” Burden: 1,080 hours.

Since this ICR was renewed 3 years ago, we obtained more accurate estimates from companies of the time required to provide the information requested, and we adjusted the burden hours accordingly. We do not include in our estimates certain requirements performed in the normal course of business as we consider them usual and customary. The following chart shows the breakdown of the estimated burden hours by CFR section and paragraph.

Respondents' Estimated Annual Burden Hours
CFR section | Reporting requirement | Burden hours per response | Annual number of responses | Annual burden hours
30 CFR 216.57 | Stripper royalty rate reduction notification. In accordance with its regulations at 43 CFR 3103.4-1, titled “Waiver, suspension, or reduction of rental, royalty, or minimum royalty,” the Bureau of Land Management (BLM) may grant reduced royalty rates to operators of low producing oil leases to encourage continued production. Operators who have been granted a reduced royalty rate(s) by BLM must submit a Stripper Royalty Rate Reduction Notification (Form MMS-4377) to MMS for each 12-month qualifying period that a reduced royalty rate(s) is granted | 1.2 | 900 | 1,080
| 58 FR 64903, Dec. 10, 1993]
| Please note the BLM citation and title changed to 43 CFR 3103.4-2 Stripper well royalty reductions
Total |  |  | 900 | 1,080

Estimated Annual Reporting and Recordkeeping “Non-hour” Cost Burden: We have identified no “non-hour” cost burdens.

Public Disclosure Statement: The PRA (44 U.S.C. 3501, et seq.) provides that an agency may not conduct or sponsor, and a person is not required to respond to a collection of information unless it displays a currently valid OMB Control Number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on February 3, 2004 (69 FR 5182), announcing that we would submit this ICR to OMB for approval. The notice provided the required 60-day comment period. We received no comments in response to the notice.

If you wish to comment in response to this notice, you may send your comments to the offices listed under the ADDRESSES section of this notice. OMB has up to 60 days to approve or disapprove the information collection but may respond after 30 days. Therefore, to ensure maximum consideration, OMB should receive public comments by October 8, 2004.

Public Comment Policy: We will post all comments in response to this notice on our Web site at http://www.mrm.mms.gov/Laws_R_D/InfoColl/InfoColCom.htm. We will also make copies of the comments available for public review, including names and addresses of respondents, during regular business hours at our offices in Lakewood, Colorado. Upon request, we will withhold an individual respondent's home address from the public record, as allowable by law. There also may be circumstances in which we would withhold from the rulemaking record a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: June 4, 2004.
Cathy J. Hamilton,
Acting Associate Director for Minerals Revenue Management.

[FR Doc. 04-20345 Filed 9-7-04; 8:45 am]

BILLING CODE 4310-MR-P